DEPARTMENT OF TRANSPORTATION

Federal Aviation Administration

[Docket No. FAA-2013-0392; Notice No.]

RIN 2120-AJ61

Notice of Proposal Policy for Distribution of FAA Data and Information; Extension of Comment Period

AGENCY: Federal Aviation Administration (FAA), DOT.

ACTION: Notice for Data and Information Policy; Extension of comment period.

SUMMARY: This action extends the comment period set out in the notice concerning data and information policy that was published on May 1, 2013. In that document, the FAA proposed its data and information distribution policy and sought comment. This extension is a result of formal requests from the public to extend the comment period to the proposal. This extension is necessary to afford all interested parties an opportunity to present their views on the proposed policy.

DATES: Comments must be received on or before July 28, 2013.

ADDRESSES: You may send comments identified by Docket No. FAA-2013-0392 using any of the following methods:

• Mail: send comments by mail to Docket Operations, U.S. Department of Transportation, M-30, room W12-140, 1200 New Jersey Avenue SE., Washington, DC 20590-0001, Persons wishing to receive confirmation of receipt of their written submission should include a self-addressed stamped postcard.

• Hand Deliver: Deliver comments to Docket Operations in Room W12-140 on the ground floor of the West Building at 1200 New Jersey Avenue SE., Washington DC, between 9:00 a.m. and 5:00 p.m., Monday through Friday, except Federal holidays.

• Facsimile: Fax comments to the docket operations personnel at 202-493-2251.

Privacy: We will post all comments we receive, without change, to http://www.regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Mojdeh Supola at (202) 385-8022 or by electronic mail at mojdeh.supola@faa.gov.

Background

On May 1, 2013, the FAA issued Notice of Proposed Policy for distribution of FAA data and information (78 FR 25521). Comments to that document were to be received on or before May 31, 2013.

By emails dated on or about May 20, 2013, three associations and two companies representing a large cross-section of the aviation industry requested that the FAA extend the comment period for 30 or 60 days (Saab Sensis Corporation, Aircraft Owners and Pilots Association, Harris corporation, Airline For America, and Regional Airline Association). The petitioners stated that good cause and need for an extended comment period arises from the scope and extent of the proposed policy, coupled with the effects it could have between and among individual companies and individuals represented by the petitioners.

The FAA agrees with the petitioners' request for an extension of the comment period. We recognize the policy contents are significant and complex. Further, we understand that it is the intention of the petitioners to continue to canvass their members and/or business partners for comments, and to coordinate and consolidate the additional comments.

Absent unusual circumstances, the FAA does not anticipate any further extension of the comment period for this rulemaking.

Extension of Comment Period

In accordance with § 11.47(c) of Title 14, Code of Federal Regulations, the FAA has reviewed the joint petition made by the three associations and the two companies for extension of the comment period for this notice. These petitioners have shown a substantive interest in the proposed policy and good cause for the extension of the comment period. The FAA has determined that extension of the comment period is consistent with the public interest, and that good cause exists for taking this action.

Accordingly, the comment period for this notice is extended to July 28, 2013.

Issued in Washington, DC, on May 28, 2013.
Harold Davis,
Director, Office of ATO Data Management.

[FR Doc. 2013-13086 Filed 5-31-13; 8:45 am]

BILLING CODE 4910-13-P